DEPARTMENT OF THE TREASURY

Submission for OMB Review; Comment Request

December 20, 2016.

The Department of the Treasury will submit the following information collection request(s) to the Office of Management and Budget (OMB) for review and clearance in accordance with the Paperwork Reduction Act of 1995, Public Law 104-13, on or after the date of publication of this notice.

DATES: Comments should be received on or before January 23, 2017 to be assured of consideration.

ADDRESSES: Send comments regarding the burden estimates, or any other aspect of the information collection(s), including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Alcohol and Tobacco Tax and Trade Bureau (TTB)

OMB Control Number: 1513-0086.

Type of Review: Revision of a currently approved collection.

Title: Marks on Equipment and Structures (TTB REC 5130/3) and Marks and Labels on Containers of Beer (TTB REC 5130/4).

Abstract: Under the authority of chapter 51 of the Internal Revenue Code of 1986, as amended (26 U.S.C. chapter 51), the TTB regulations require marks, signs, and suitable measuring devices on brewery equipment and structures in order to identify the use and capacity of brewery equipment and structures, tank contents, and to identify taxpaid and nontaxpaid beer. To identify products for purposes of administering the IRC's excise tax provisions, the TTB regulations also require marks, brands, and labels on kegs, cans, bottles, and cases of beer. These marks, brands, and labels identify the name or trade name of the brewer, the place of production of the beer, the contents of the container, and the nature of the product (beer, ale, etc.).

Affected Public: Businesses or other for-profits.

Estimated Total Annual Burden Hours: 1.

Bob Faber,
Acting Treasury PRA Clearance Officer.

[FR Doc. 2016-31033 Filed 12-22-16; 8:45 am]

BILLING CODE 4810-31-P